DEPARTMENT OF COMMERCE

National Oceanic and Atmospheric Administration

RIN 0648-XB011

Mid-Atlantic Fishery Management Council (MAFMC); Public Meeting; Correction

AGENCY: National Marine Fisheries Service (NMFS), National Oceanic and Atmospheric Administration (NOAA), Commerce.

ACTION: Notice of revision of a public meeting.

SUMMARY: The Mid-Atlantic Fishery Management Council's (Council) Ad-Hoc Atlantic Sturgeon Committee will hold a meeting.

DATES: The meeting will be held on March 19, 2012, from 10 a.m. until 4 p.m.

ADDRESSES: The meeting will be held at Four Points by Sheraton BWI Airport, 7032 Elm Road, Baltimore, MD 21240; telephone: (410) 859-3300.

Council address: Mid-Atlantic Fishery Management Council, 800 N. State Street Suite 201, Dover, DE 19901; telephone: (302) 674-2331.

FOR FURTHER INFORMATION CONTACT: Christopher M. Moore Ph.D., Executive Director, Mid-Atlantic Fishery Management Council, 800 N. State Street Suite 201, Dover, DE 19901; telephone: (302) 526-5255.

SUPPLEMENTARY INFORMATION: The original notice published in the Federal Register on February 17, 2012 (77 FR 9628). The date of the meeting changed from March 6, 2012 to March 19, 2012. All other previously published information remains unchanged.

Special Accommodations

The meeting is physically accessible to people with disabilities. Requests for sign language interpretation or other auxiliary aids should be directed to M. Jan Saunders at the Mid-Atlantic Council Office (302) 526-5251 at least 5 days prior to the meeting date.

Dated: February 23, 2012.
Tracey L. Thompson,
Acting Director, Office of Sustainable Fisheries, National Marine Fisheries Service.

[FR Doc. 2012-4642 Filed 2-27-12; 8:45 am]

BILLING CODE 3510-22-P